DEPARTMENT OF LABOR

Employment and Training Administration

[TA-W-62,616]

Weyerhaeuser Longview Lumber, Longview, WA; Notice of Termination of Investigation

Pursuant to Section 221 of the Trade Act of 1974, as amended, an investigation was initiated on December 31, 2007 in response to a petition filed by the International Association of Machinists and Aerospace Workers-Woodworkers, Local W-536 on behalf of workers at Weyerhaeuser Longview Lumber, Longview, Washington.

The petitioner has requested that the petition be withdrawn. Consequently, the investigation has been terminated.

Signed at Washington, DC, this 17th day of January, 2008.
Linda G. Poole,
Certifying Officer, Division of Trade Adjustment Assistance.

[FR Doc. E8-1280 Filed 1-24-08; 8:45 am]

BILLING CODE 4510-FN-P